DEPARTMENT OF COMMERCE

Foreign-Trade Zones Board

[Docket 11-2003]

Foreign-Trade Zone 75—Phoenix, AZ; Application for Subzone, American Italian Pasta Company, Distribution of Dry Pasta Products, Tolleson, AZ

An application has been submitted to the Foreign-Trade Zones Board (the Board) by the City of Phoenix, Arizona, grantee of FTZ 75, requesting special-purpose subzone status for the dry pasta products warehousing/distribution facility of the American Italian Pasta Company (AIPC), in Tolleson, Arizona. The application was submitted pursuant to the provisions of the Foreign-Trade Zones Act, as amended (19 U.S.C. 81a-81u), and the regulations of the Board (15 CFR part 400). It was formally filed on March 4, 2003.

The AIPC facility (288,000 sq. ft./1 bldg. on 22.7 acres) is located at 495 South 99th Avenue, Tolleson (Maricopa County), Arizona. It was expanded in 2002 and is expected to become fully operational during the first quarter of 2003. The facility (54 employees initially, with plans to increase to some 200) is used for warehousing, inspection, packaging and distribution of dry pasta products received by all AIPC facilities located in the U.S. and Italy. About 1 percent of production is currently exported. The plant will also be used to manufacture dry pasta for U.S. and export markets, but manufacturing authority is not being requested at this time. Certain dry pasta imports from Italy are subject to anti-dumping/countervailing (AD/CVD) duties.

Zone procedures would exempt AIPC from Customs duty payments (including AD/CVD) on foreign products that are reexported. On domestic sales, the company would be able to defer payments until merchandise is shipped from the plant. FTZ status may also make a site eligible for benefits provided under state/local programs. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is May 12, 2003. Rebuttal comments in response to material submitted during the foregoing period may be submitted during the subsequent 15-day period (to May 27, 2003).

A copy of the application and accompanying exhibits will be available for public inspection at the Office of the Foreign-Trade-Zones Board's Executive Secretary at address Number 1 listed above, and at the U.S. Department of Commerce Export Assistance Center, 2901 N. Central Ave., Suite 970, Phoenix, AZ 85012.

Dated: March 4, 2003.
Dennis Puccinelli,
Executive Secretary.

[FR Doc. 03-6087 Filed 3-12-03; 8:45 am]

BILLING CODE 3510-DS-P